Title 3—

The President

Proclamation 10765 of May 24, 2024

Prayer for Peace, Memorial Day, 2024

By the President of the United States of America

A Proclamation

This Memorial Day, we honor the brave women and men who made the ultimate sacrifice for our Nation's freedom. We recommit to keeping our sacred obligation to their survivors, families, and caregivers. Together, we vow to honor their memories by carrying on their work to forge a more perfect Union.

Since our Nation's founding, members of our Armed Forces have been willing to lay down their lives—not for a person or a place but for an idea unlike any other in human history: the idea of the United States of America. We are the only Nation in the world founded on the idea that we are all created equal and deserve to be treated equally throughout our entire lives. Generations of America's beloved daughters and sons have dared all, risked all, and given all for this idea. Today, as they lie in eternal peace, we continue to live by the light of liberty they kept burning bright.

To all those grieving the loss of a loved one who wore the uniform, including our Gold Star Families, and to all those who have a loved one still missing or unaccounted for: Our country sees you and mourns with you. I know how painful this day can be—how it can bring you back to the day you lost a piece of your soul. It is overwhelming. No words can ease that grief. But I hope you find a small measure of solace in knowing that we will never forget the price your loved one paid for our freedom—and we will never stop trying to repay the debt of gratitude we owe you and them.

That is our vow today—and that is our vow always. May God bless our fallen heroes. May God bring comfort to their families. May God protect our troops.

In honor and recognition of all of our fallen service members, the Congress, by a joint resolution approved May 11, 1950, as amended (36 U.S.C. 116), has requested that the President issue a proclamation calling on the people of the United States to observe each Memorial Day as a day of prayer for permanent peace and designating a period on that day when the people of the United States might unite in prayer and reflection. The Congress, by Public Law 106-579, has also designated 3:00 p.m. local time on that day as a time for all Americans to observe, in their own way, the National Moment of Remembrance.

NOW, THEREFORE, I, JOSEPH R. BIDEN JR., President of the United States of America, do hereby proclaim Memorial Day, May 27, 2024, as a day of prayer for permanent peace, and I designate the hour beginning in each locality at 11:00 a.m. of that day as a time when people might unite in prayer and reflection. I urge the press, radio, television, and all other information media to cooperate in this observance. I further ask all Americans to observe the National Moment of Remembrance beginning at 3:00 p.m. local time on Memorial Day.

I request the Governors of the United States and its Commonwealths and Territories, and the appropriate officials of all units of government, to direct that the flag be flown at half-staff until noon on this Memorial Day on all buildings, grounds, and naval vessels throughout the United States and in all areas under its jurisdiction and control. I encourage families, friends, and neighbors to post tributes to our fallen service members through the Veterans Legacy Memorial at vlm.cem.va.gov so that we may learn more about the lives and contributions of those buried in National, State, and Tribal veteran cemeteries. I also request the people of the United States to display the flag at half-staff from their homes for the customary forenoon period.

IN WITNESS WHEREOF, I have hereunto set my hand this twenty-fourth day of May, in the year of our Lord two thousand twenty-four, and of the Independence of the United States of America the two hundred and forty-eighth.

[FR Doc. 2024-12101

Filed 5-30-24; 8:45 am]

Billing code 3395-F4-P